DEPARTMENT OF COMMERCE

International Trade Administration

[A-570-101]

Continuation of Antidumping Duty Order; Greige Polyester Cotton Printcloth from the People's Republic of China

AGENCY: Import Administration, International Trade Administration, Department of Commerce.

SUMMARY: As a result of the determinations by the Department of Commerce (“the Department”) and the International Trade Commission (“ITC”) that revocation of the antidumping duty order on greige polyester cotton printcloth (“printcloth”) from the People's Republic of China (“China”) would likely lead to continuation or recurrence of dumping and material injury to an industry in the United States, the Department is publishing notice of the continuation of this antidumping duty order.

EFFECTIVE DATE: June 27, 2005.

FOR CONTACT INFORMATION: Hilary E. Sadler, Esq., or Maureen Flannery, AD/CVD Operations, Office 8, Import Administration, International Trade Administration, U.S. Department of Commerce, 14th Street and Constitution Ave., NW, Washington, DC 20230; telephone: (202) 482-4340 or (202) 482-3020, respectively.

SUPPLEMENTARY INFORMATION:

Background

On March 1, 2004, the Department initiated and the ITC instituted a sunset review of the antidumping duty order on greige polyester printcloth from China, pursuant to section 751(c) of the Tariff Act of 1930, as amended (“the Act”).¹ As a result of its review, the Department found that revocation of the antidumping duty order would likely lead to continuation or recurrence of dumping and notified the ITC of the magnitude of the margin likely to prevail were the order to be revoked.² On June 2, 2005, the ITC determined, pursuant to section 751(c) of the Act, that revocation of the antidumping duty order on printcloth from China would likely lead to continuation or recurrence of material injury to an industry in the United States within a reasonably foreseeable time.³

¹ See Initiation of Five-Year (“Sunset”) Reviews, 69 FR 9585 (March 1, 2004) and ITC's Investigation No. 731-TA-101 (Second Review), 69 FR 9640 (March 1, 2004).

² See Greige Polyester Printcloth from the People's Republic of China; Final Results of Expedited Sunset Review of Antidumping Duty Order, 69 FR 40611 (July 6, 2004).

³ See Investigation No. 731-TA-101 (Second Review), 70 FR 32371 (June 2, 2005).

Scope of the Antidumping Duty Order

The scope remains unchanged from the Final Results of Expedited Sunset Review; Greige Polyester Cotton Printcloth from the People's Republic of China, 64 FR 13399 (March 18, 1999). The merchandise subject to this antidumping order is greige polyester cotton printcloth, other than 80 x 80 type. Greige polyester cotton printcloth is of chief weight cotton,⁴ unbleached and uncolored printcloth. The term “printcloth” refers to plain woven fabric, not napped, not fancy or figured, of singles yarn, not combed, of average yarn number 43 to 68,⁵ weighing not more than 6 ounces per square yard, of a total count of more than 85 yarns per square inch, of which the total count of the warp yarns per inch and the total count of the filling yarns per inch are each less than 62 percent of the total count of the warp and filling yarns per square inch. This merchandise is currently classifiable under Harmonized Tariff Schedule (“HTSUS”) item 5210.11.6060. The HTSUS item number is provided for convenience and customs purposes; however, the written description remains dispositive.

⁴ In the scope from the original investigation, the Department defined the subject merchandise by chief value (i.e., the subject merchandise was of chief value cotton). For the purposes of this review, we have incorporated the U.S Customs Service's conversion to chief weight (i.e., the subject merchandise is of chief weight cotton). See Memorandum, RE: Greige Polyester Cotton Printcloth-Scope, February 25, 1999.

⁵ Under the English system, this average yarn number count translates to 26 to 40. The average yarn number counts reported in previous scope descriptions by the Department are based on the English system of yarn number counts. Per phone conversations with U.S. Customs and Border Protection (“CBP”) officials, CBP now relies on the metric system to establish average yarn number counts. Thus, the 26 to 40 average yarn number count under the English system translates to a 43 to 68 average yarn number count under the metric system. See Memorandum, RE: Greige Polyester Cotton Printcloth-Scope, February 19, 1999.

Determination

As a result of the determinations by the Department and the ITC that revocation of this antidumping duty order would likely lead to continuation or recurrence of dumping and material injury to an industry in the United States, pursuant to section 751(d)(2) of the Act, the Department hereby orders the continuation of the antidumping duty order on printcloth from China.

U.S. Customs and Border Protection will continue to collect antidumping duty deposits at the rates in effect at the time of entry for all imports of subject merchandise. The effective date of continuation of this order will be the date of publication in the Federal Register of this Notice of Continuation. Pursuant to sections 751(c)(2) and 751(c)(6) of the Act, the Department intends to initiate the next five-year review of this order not later than May 2010.

This five-year (“sunset”) review and notice are in accordance with section 751(c) of the Act.

Dated: June 9, 2005.
Joseph A. Spetrini,
Acting Assistant Secretary for Import Administration.

[FR Doc. E5-3335 Filed 6-24-05; 8:45 am]

BILLING CODE 3510-DS-S